DEPARTMENT OF THE INTERIOR

National Park Service

[NPS-WASO-NAGPRA-NPS0034885; PPWOCRADN0-PCU00RP14.R50000]

Notice of Inventory Completion: University of California, Davis, Davis, CA

AGENCY: National Park Service, Interior.

ACTION: Notice.

SUMMARY: In accordance with the Native American Graves Protection and Repatriation Act (NAGPRA), the University of California, Davis (UC Davis) has completed an inventory of human remains and associated funerary objects and has determined that there is a cultural affiliation between the human remains and associated funerary objects and Indian Tribes or Native Hawaiian organizations in this notice. The human remains and associated funerary objects were removed from Colusa County, CA.

DATES: Repatriation of the human remains and associated funerary objects in this notice may occur on or after December 19, 2022.

ADDRESSES: Megon Noble, NAGPRA Project Manager, University of California, Davis, 412 Mrak Hall, One Shields Avenue, Davis, CA 95616, telephone (530) 752-8501, email mnoble@ucdavis.edu.

SUPPLEMENTARY INFORMATION: This notice is published as part of the National Park Service's administrative responsibilities under NAGPRA. The determinations in this notice are the sole responsibility of UC Davis. The National Park Service is not responsible for the determinations in this notice. Additional information on the determinations in this notice, including the results of consultation, can be found in the inventory or related records held by UC Davis.

Description

Human remains representing, at minimum, 14 individuals were removed from Colusa County, CA. In 1962 and 1963, CA-COL-1 (UC Davis Accession 38) was excavated by Dr. Martin Baumhoff and Walt Brown as a part of a UC Davis Field School. No known individuals were identified. Of the 649 associated funerary objects listed in this notice, 559 objects are present and accounted for in the UC Davis collections and 90 objects are currently missing. The 559 associated funerary objects are 13 Olivella beads or shells, one shell pendant, two clamshell beads or clamshell disc beads, one historic bead, one bone bead, two stone beads, one stone “tinkler,” 70 projectile points, 85 bone awls, three bone pins, one incised bone (possible whistle), 13 bone tubes, six bone flakers, seven bone wedges, seven bone spatulas, 104 miscellaneous worked bones, 30 chipped stone items (bifaces, debitage, flake tools, and stone scrapers), 14 miscellaneous worked stone items, six miscellaneous worked shells, four groundstone items (including one pestle), one piece of historic metal, three pieces of charcoal or ash, two unmodified rocks, 46 lots of unmodified shell, 10 lots of clay (including baked clay), and 126 lots of animal bone fragments. UC Davis continues to look for the following 90 missing associated funerary objects: 19 Olivella beads or shells, one shell pendant, one shell bead (unknown type), six clamshell beads or clamshell disc beads, one stone bead, 11 projectile points, four bone awls, one bone pin, one bone harpoon, one bone tube, 14 misc. worked bones, eight chipped stones, six miscellaneous worked stones, one miscellaneous worked shell, four groundstone items, one piece of charcoal, one miscellaneous ceramic item (possibly an ear plug), one lot of unmodified shell, seven lots of clay, and one lot of animal bone fragments.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, biological, geographical, historical, linguistic, and oral traditional.

Determinations

Pursuant to NAGPRA and its implementing regulations, and after consultation with the appropriate Indian Tribes and Native Hawaiian organizations, UC Davis has determined that:

• The human remains described in this notice represent the physical remains of 14 individuals of Native American ancestry.

• The 649 objects described in this notice are reasonably believed to have been placed with or near individual human remains at the time of death or later as part of the death rite or ceremony.

• There is a relationship of shared group identity that can be reasonably traced between the human remains and associated funerary objects described in this notice and the Cachil DeHe Band of Wintun Indians of the Colusa Indian Community of the Colusa Rancheria, California; Kletsel Dehe Band of Wintun Indians (previously listed as Cortina Indian Rancheria); and the Yocha Dehe Wintun Nation, California (previously listed as Rumsey Indian Rancheria of Wintun Indians of California).

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after December 19, 2022. If competing requests for repatriation are received, UC Davis must determine the most appropriate requestor prior to repatriation. Requests for joint repatriation of the human remains and associated funerary objects are considered a single request and not competing requests. UC Davis is responsible for sending a copy of this notice to the Indian Tribes identified in this notice.

Authority: Native American Graves Protection and Repatriation Act, 25 U.S.C. 3003, and the implementing regulations, 43 CFR 10.9, 10.10, and 10.14.

Dated: November 9, 2022.
Melanie O'Brien,
Manager, National NAGPRA Program.

[FR Doc. 2022-25130 Filed 11-17-22; 8:45 am]

BILLING CODE 4312-52-P